DEPARTMENT OF COMMERCE

National Oceanic and Atmospheric Administration

50 CFR Part 648

[Docket No. 130903775-4002-01]

RIN 0648-BD65

Fisheries of the Northeastern United States; Atlantic Mackerel, Squid, and Butterfish Fisheries; Specifications and Management Measures

AGENCY: National Marine Fisheries Service (NMFS), National Oceanic and Atmospheric Administration (NOAA), Commerce.

ACTION: Proposed rule, request for comments.

SUMMARY: NMFS proposes the specifications for the 2014 fishing year for butterfish, as well as other management measures for the species managed under the Atlantic Mackerel, Squid, and Butterfish Fishery Management Plan. NMFS previously set specifications for longfin squid and Illex squid for 3 years in 2012 (2012-2014) and, therefore, new specifications will not be included in this year's specification rulemaking. Likewise, NMFS set specifications for mackerel for 3 years in 2013 (2013-2015), and new specifications will also not be included in this action. The proposed specifications for butterfish would increase the butterfish acceptable biological catch by 8 percent and would increase the butterfish landings limit by 24 percent compared to 2013. This action also proposes to increase the butterfish Phase 3 trip limit from 500 lb (0.23 mt) to 600 lb (0.27 mt) for longfin squid/butterfish moratorium permit holders; establish a 236-mt cap on river herring (blueback and alewife) and shad (American and hickory) catch in the mackerel fishery; and raise the post-closure possession limit for longfin squid to 15,000 lb (6.80 mt) for vessels targeting Illex squid.

DATES: Public comments must be received by February 10, 2014.

ADDRESSES: Copies of supporting documents used by the Mid-Atlantic Fishery Management Council (Council), including the Environmental Assessment (EA) and Regulatory Impact Review (RIR)/Initial Regulatory Flexibility Analysis (IRFA), are available from: Dr. Christopher M. Moore, Executive Director, Mid-Atlantic Fishery Management Council, Suite 201, 800 N. State Street, Dover, DE 19901. The EA/RIR/IRFA is accessible via the Internet at http://www.nero.noaa.gov.

You may submit comments, identified by NOAA-NMFS-2013-0172, by any one of the following methods:

• Electronic Submission: Submit all electronic public comments via the Federal e-Rulemaking Portal. Go to www.regulations.gov/#!docketDetail;D=NOAA-NMFS-2013-0172, click the “Comment Now!” icon, complete the required fields, and enter or attach your comments. Mail: Submit written comments to NOAA Fisheries, Northeast Regional Office, 55 Great Republic Dr, Gloucester, MA 01930. Mark the outside of the envelope “Comments on 2014 MSB Specifications.”

Instructions: Comments sent by any other method, to any other address or individual, or received after the end of the comment period, may not be considered by NMFS. All comments received are a part of the public record and will generally be posted for public viewing on www.regulations.gov without change. All personal identifying information (e.g., name, address, etc.), confidential business information, or otherwise sensitive information submitted voluntarily by the sender will be publicly accessible. NMFS will accept anonymous comments (enter “N/A” in the required fields if you wish to remain anonymous). Attachments to electronic comments will be accepted in Microsoft Word, Excel, or Adobe PDF file formats only.

FOR FURTHER INFORMATION CONTACT: Aja Szumylo, Fishery Policy Analyst, 978-281-9195, fax 978-281-9135.

SUPPLEMENTARY INFORMATION:

Background

This rule proposes specifications, which are the combined suite of commercial and recreational catch levels established for one or more fishing years. The specification process also allows for the modification of a select number of management measures, such as closure thresholds, gear restrictions, and possession limits. The Council's process for establishing specifications relies on provisions within the Atlantic Mackerel, Squid, and Butterfish (MSB) Fishery Management Plan (FMP) and its implementing regulations, as well as requirements established by the Magnuson-Stevens Fishery Conservation and Management Act (Magnuson-Stevens Act). Specifically, section 302(g)(1)(B) of the Magnuson-Stevens Act states that the Scientific and Statistical Committee (SSC) for each Regional Fishery Management Council shall provide its Council ongoing scientific advice for fishery management decisions, including recommendations for acceptable biological catch (ABC), preventing overfishing, maximum sustainable yield, and achieving rebuilding targets. The ABC is a level of catch that accounts for the scientific uncertainty in the estimate of the stock's defined overfishing level (OFL). The Council's SSC met on May 15 and 16, 2013, confirming 2014 specifications for Illex squid, longfin squid, and Atlantic mackerel (mackerel) and recommending ABCs for the 2014 butterfish specifications. As previously mentioned, NMFS set the specifications for longfin squid and Illex squid for 3 years in 2012 (77 FR 51858; August 27, 2012) and for mackerel in 2013 (78 FR 3346; January 16, 2013). Information on these specifications are not included in this action and can be found in the final rules for those actions, as referenced above.

The MSB FMP's implementing regulations require the involvement of a monitoring committee in the specification process for each species. The monitoring committees' role has largely been to recommend any reduction in catch limits from the SSC-recommended ABCs to offset management uncertainty, and to recommend other management measures (e.g., gear and/or possession restrictions) needed for the efficient management of the fisheries. The MSB Monitoring Committee met on May 28, 2013, to discuss specification related recommendations for the 2014 butterfish fishery, changes in management measures in the squid and butterfish fisheries, and the establishment of the river herring/shad (RH/S) cap in the mackerel fishery.

Following the SSC and MSB Monitoring Committee meetings, the Council considered the committees' recommendations and public comments at its June 2013, meeting in Eatontown, NJ, and made their specification recommendations. The Council submitted these recommendations, along with the required analyses, for agency review on August 15, 2013, with final submission on December 18, 2013. NMFS must review the Council's recommendations to ensure that they comply with the FMP and applicable law, and conduct notice-and-comment rulemaking to propose and implement the final recommendations.

The MSB regulations require the specification of annual catch limits (ACL) and accountability measure (AM) provisions for mackerel and butterfish (both squid species are exempt from the ACL/AM requirements because they have a life cycle of less than 1 year). In addition, the regulations require the specification of domestic annual harvest (DAH), domestic annual processing (DAP), and total allowable level of foreign fishing (TALFF), along with joint venture processing for (JVP) and commercial and recreational annual catch totals (ACT) for mackerel, the butterfish mortality cap in the longfin squid fishery, and initial optimum yield (IOY) for both squid species.

2014 Proposed Specifications for Butterfish

Table 1 outlines all of the proposed butterfish specifications for the 2014 fishing year, which are further explained below.

Table 1—Proposed Specifications, in Metric Tons (mt), for Butterfish for the 2014 Fishing Year
Specifications | Butterfish (mt)
OFL | 18,200.
ABC | 9,100.
ACL | 8,190.
Commercial ACT | 7,084.
DAH/DAP | 3,200.
JVP | 0.
TALFF | 0.
Butterfish Mortality Cap | 3,884.
RSA | Up to 2 percent of ACT (164 mt).

Most recent assessments of the butterfish resource do not provide conclusive advice on the status of the butterfish resource in order to make a determination of whether or not the stock is overfished. A new assessment is underway and expected to be finalized in January 2014. To address this, NOAA's Northeast Fisheries Science Center (NEFSC) expanded its fall trawl survey data (i.e., the survey that best samples butterfish) to a range of total swept area biomass based on ranges of reasonable assumptions regarding catchability, and also investigated likely fishing mortalities from various catch levels. The results of this strongly supported that a catch of 9,100 mt would be extremely unlikely to cause overfishing if the 2014 biomass of butterfish is similar to butterfish biomass over 2006-2012.

Additional NEFSC analysis examined the range of probable fishing mortalities that would result from relatively conservative assumptions about butterfish biomass. This analysis suggested that catches of 18,200 mt would only lead to overfishing under the most extreme assumptions (i.e., assuming that the entire Atlantic butterfish stock falls within the bounds of the NEFSC's fall trawl survey area, and that the survey catches 100 percent of the butterfish in each sample location). The SSC therefore adopted 18,200 mt as a proxy OFL and recommended an ABC of 9,100 mt (50 percent of the OFL, and an 8-percent increase from the 2013 ABC). The relatively large 50-percent buffer accounts for uncertainty in the evaluation of fishing mortality associated with the catch levels. A detailed summary of the SSC's rationale for its 2014 butterfish ABC recommendation is available in its May 2013 Report (available, along with other materials from the SSC discussion, at: http://www.mafmc.org/ssc-meeting-documents).

The Council recommended setting the butterfish ACL equal to the ABC, and establishing a 10-percent buffer between ACL and ACT for management uncertainty, which would result in an ACT of 8,190 mt. From this amount, the Council recommended setting the DAH and DAP at 3,200 mt and the butterfish discard cap in the longfin fishery at 3,884 mt. The remaining 1,106 mt of the ACT allows for discards in other fisheries to minimize the likelihood of an ACL overage. Since up to 3 percent of the ACL for butterfish may be set aside for scientific research, the Council recommended setting aside up to 2 percent of the butterfish ACT (i.e., 164 mt). This allocation would be accounted for within the 1,106-mt unallocated portion of the ACT that covers butterfish discards in other fisheries.

NMFS proposes specifications, consistent with the Council's recommendation, that would set the butterfish ABC/ACL at 9,100 mt, the ACT at 8,190 mt, the DAH and DAP at 3,200 mt, and the butterfish mortality cap on the longfin squid fishery at 3,884 mt. Additionally, consistent with MSB regulations, NMFS is proposing zero TALFF for butterfish in 2014. Butterfish TALFF is only specified to address bycatch by foreign fleets targeting mackerel TALFF. Because no mackerel TALFF was allocated for the 2013-2015 fishing years, butterfish TALFF is also proposed to be set at zero for 2014.

Consistent with 2013, NMFS proposes that the 2014 butterfish mortality cap be allocated by Trimester, as follows:

Table 2—Proposed Trimester Allocation of Butterfish Mortality Cap on the Longfin Squid Fishery for 2014
Trimester | Percent | Metric tons
I (Jan-Apr) | 65 | 2,525
II (May-Aug) | 3.3 | 128
III (Sep-Dec) | 31.7 | 1,231
Total | 100 | 3,884

This action also proposes to increase the butterfish possession limit in Phase 3 of the directed butterfish fishery. Currently, NMFS manages the directed butterfish fishery in three phases. Table 3 shows the phases and possession limits, and the fishery moves from Phase 1, to Phase 2, and to Phase 3 when catch reaches specified thresholds throughout the year. When NMFS projects the butterfish harvest to reach the catch threshold for Phase 3, the trip limit for all limited access permit holders is currently reduced to 500 lb (0.23 mt) to avoid quota overages, but the incidental trip limit remains at 600 lb (0.27 mt). This action would increase the Phase 3 possession limit from 500 lb (0.23 mt) to 600 lb (0.27 mt) to allow for consistency with the current incidental butterfish trip limit.

Table 3—Three-Phase Butterfish Management System
Phase | Longfin squid/butterfish moratorium permit trip limit: ≥3 inch (7.62 cm) mesh | Longfin squid/butterfish moratorium permit trip limit: <3 inch (7.62 cm) mesh | Squid/butterfish incidental catch permit trip limit
1 | Unlimited | 2,500 lb (1.13 mt) | 600 lb (0.27 mt).
2 | 5,000 lb (2.27 mt) | 2,500 lb (1.13 mt) | 600 lb (0.27 mt).
3 | 600 lb (0.27 mt) | 600 lb (0.27 mt) | 600 lb (0.27 mt).

Consistent with 2013, NMFS proposes the following quota thresholds to reduce the trip limits for Phases 2 and 3 (Tables 4 and 5):

Table 4—Proposed Butterfish Thresholds for Reducing Trip Limits for Phase 2
Months | Trip limit reduction threshold (percent) | Butterfish harvest (metric tons)
Jan-Feb | 40 | 1,658
Mar-Apr | 47 | 1,838
May-Jun | 55 | 2,044
Jul-Aug | 63 | 2,249
Sept-Oct | 71 | 2,455
Nov-Dec | 78 | 2,635

Table 5—Proposed Butterfish Thresholds for Reducing Trip Limits for Phase 3
Months | Trip limit reduction threshold (percent) | Butterfish harvest (metric tons)
Jan-Feb | 58 | 2,121
Mar-Apr | 64 | 2,275
May-Jun | 71 | 2,455
Jul-Aug | 78 | 2,635
Sept-Oct | 85 | 2,815
Nov-Dec | 91 | 2,969

Proposed River Herring and Shad Catch Cap in the Mackerel Fishery

This action proposes a river herring and shad (RH/S) catch cap in the mackerel fishery. In order to limit RH/S catch, Amendment 14 to the FMP (proposed rule published August 29, 2013, 78 FR 53404; partial approval by Secretary on November 7, 2013) includes the provision to allow the Council to set a RH/S cap. However, the actual value of the cap must be set through annual specifications. As such, this action proposes the Council's recommended RH/S catch cap of 236 mt. This amount represents the estimated median amount of RH/S that would have been caught, had the commercial mackerel fishery landed its current quota of 33,821 mt for each year during 2005-2012 based on analysis of observer and landings. RH/S caught on all trips that land 20,000 lb (9.07 mt) or more of mackerel would count against the cap. Once NMFS estimates that directed mackerel trips have caught 95 percent of the 236-mt RH/S cap, then the directed mackerel fishery would close, and NMFS would institute a 20,000-lb mackerel trip limit, as currently occurs if the directed mackerel fishery closes. The improved reporting and monitoring requirements proposed in Amendment 14 would enable monitoring of the RH/S cap. This proposed RH/S cap amount should create a strong incentive for the fleet to avoid RH/S, would allow for the possibility of the full mackerel quota to be caught if the fleet can avoid RH/S, and would likely reduce RH/S catches over time, compared to what would occur without a cap, given recent data.

Longfin Squid Possession Limit Increase

This action proposes to increase the Trimester II longfin squid post-closure possession limit for longfin squid/butterfish moratorium permit holders from 2,500 lb (1.13 mt) to 15,000 lb (6.80 mt) for vessels targeting Illex squid if they are fishing seaward of the Illex mesh exemption line and have more than 10,000 lb (4.54 mt) of Illex onboard. In recent years, fishermen are reporting that, to remain in compliance with longfin squid regulations, they sometimes have to discard large quantities of longfin squid while Illex fishing during longfin squid Trimester II after that trimester closes (i.e., from July 10-August 31 in 2012). Increasing the longfin squid possession limit to accommodate the multi-day nature of Illex fishing trips would reduce the potential for high levels of regulatory discarding of longfin on such trips. Requiring a minimal Illex possession requirement of 15,000 lb (6.80 mt) should help ensure that vessels are actually Illex fishing when they utilize this provision, and restricting the proposed possession limit increase to areas beyond the Illex mesh exemption line should help prevent vessels returning from Illex fishing from targeting longfin squid in inshore areas after a Trimester II closure. This action does not propose changes for the post-closure possession limit for longfin squid during Trimesters I (January 1-April 30) or III (September 1-December 31). The post-closure possession limit for longfin squid would remain 2,500 lb (1.13 mt) during those Trimesters.

Corrections

This proposed rule also contains minor corrections to existing regulations, and would reinstate regulations that were inadvertently deleted in previous rulemakings. NMFS proposes these adjustments under the authority of section 305(d) to the Magnuson-Stevens Act, which provides that the Secretary of Commerce may promulgate regulations necessary to ensure that amendments to an FMP are carried out in accordance with the FMP and the Magnuson-Stevens Act. These adjustments, which are identified and described below, are necessary to clarify current regulations or the intent of the FMP and would not change the intent of any regulations.

NMFS proposes to clarify the coordinates at § 648.23(a)(3) to more accurately define the Illex exemption line. Most significantly, this action proposes to create a southern boundary for the exemption by extending the southernmost point eastward until it intersects with the boundary of the Exclusive Economic Zone. In addition, this rule proposes to reinstate the coordinates for the MSB bottom trawling restricted areas (i.e., Oceanographer Canyon and Lydonia Canyon) at § 648.23(a)(4), which were inadvertently deleted in previous rulemaking.

Classification

Pursuant to section 304(b)(1)(A) of the Magnuson-Stevens Act, the NMFS Assistant Administrator has determined that this proposed rule is consistent with the Atlantic Mackerel, Squid, and Butterfish FMP; other provisions of the Magnuson-Stevens Act; and other applicable law, subject to further consideration after public comment.

This proposed rule has been determined to be not significant for purposes of Executive Order 12866.

The Council prepared an IRFA, as required by section 603 of the Regulatory Flexibility Act (RFA). The IRFA describes the economic impact this proposed rule, if adopted, would have on small entities. A summary of the analysis follows. A copy of this analysis is available from the Council or NMFS (see ADDRESSES) or via the Internet at http://www.nero.noaa.gov.

Statement of Objective and Need

This action proposes 2014 specifications for butterfish, along with management measures for the longfin squid, butterfish, and mackerel fisheries. A complete description of the reasons why this action is being considered, and the objectives of and legal basis for this action, are contained in the preamble to this proposed rule and are not repeated here.

Description and Estimate of Number of Small Entities to Which the Rule Will Apply

On June 20, 2013, the Small Business Administration (SBA) issued a final rule revising the small business size standards for several industries effective July 22, 2013 (78 FR 37398). The rule increased the size standard for Finfish Fishing from $4.0 to $19.0 million, Shellfish Fishing from $4.0 to $5.0 million, and Other Marine Fishing from $4.0 to $7.0 million. NMFS has reviewed the analyses prepared for this action in light of the new size standards. Under the former, lower size standards, all entities subject to this action were considered small entities, thus they all would continue to be considered small under the new standards.

The proposed measures in the 2014 MSB Specifications and Management Measures could affect any vessel holding an active Federal permit to fish for Atlantic mackerel, longfin squid, Illex squid, or butterfish. Having different size standards for different types of marine fishing activities creates difficulties in categorizing businesses that participate in more than one of these activities. For now, the short-term approach is to classify a business entity into the SBA defined categories based on which activity produced the highest gross revenue. In this case, Atlantic mackerel is the only species with significant recreational fishing, and in 2012, the charter boat industry harvested only 10,000 lb (4.54 mt). Based on these assumptions, the finfish size standard would apply, and the business is considered large, only if revenues are greater than $19 million. As such, all of the potentially affected businesses are considered small entities under the standards described in NMFS guidelines, because they have gross receipts that do not exceed $19 million annually. Based on permit data for 2013, 2,441 commercial or charter vessels possessed MSB permits for the 2013 fishing year, and similar numbers of vessels are expected to have MSB permits for 2014. Many vessels participate in more than one of these fisheries; therefore, permit numbers are not additive.

Although it is possible that some entities, based on rules of affiliation, would qualify as large business entities, due to lack of reliable ownership affiliation data NMFS cannot apply the business size standard at this time. NMFS is currently compiling data on vessel ownership that should permit a more refined assessment and determination of the number of large and small entities for future actions. For this action, since available data are not adequate to identify affiliated vessels, each operating unit is considered a small entity for purposes of the RFA, and, therefore, there is no differential impact between small and large entities. Therefore, there are no disproportionate economic impacts on small entities. Section 6.7 in Amendment 14 describes the vessels, key ports, and revenue information for the MSB fisheries; therefore, that information is not repeated here.

Description of Projected Reporting, Recordkeeping, and Other Compliance Requirements

There are no new reporting or recordkeeping requirements contained in any of the alternatives considered for this action. In addition, there are no Federal rules that duplicate, overlap, or conflict with this proposed rule.

Minimizing Significant Economic Impacts on Small Entities

Proposed Actions

The proposed RH/S catch cap in the mackerel fishery has the potential to limit the fishery from achieving its full mackerel quota if the RH/S encounter rates are high, but it is very unlikely that the fishery would close before exceeding the levels of landings experienced since 2010, when landings have been less than 11,000 mt. Limiting catches of river herring and shad has the potential to benefit those species, although the extent of this benefit is unknown because overall abundance information for these species is not available.

The butterfish DAH proposed in this action (3,200 mt) represents a 24-percent increase over the 2013 DAH (2,570 mt). The proposed increase in the DAH has the potential to slightly increase revenue for permitted vessels.

In addition, this action proposes a slightly higher trip limit in Phase 3 of the directed butterfish fishery, in order to simplify the regulations and have this limit match the incidental trip limit of 600 lb (0.27 mt). This increase should also have positive economic impacts on the fishery.

The only proposed adjustment to the longfin squid fishery is an increase to the Trimester II longfin squid post-closure possession limit for longfin squid/butterfish moratorium permit holders from 2,500 lb (1.13 mt) to 15,000 lb (6.80 mt) for vessels targeting Illex. This measure should reduce regulatory discarding and provide a small amount of additional revenue; thus, it would have positive economic impacts to the Illex fishery.

Alternatives to the Proposed Rule

The Council analysis evaluated four alternatives to the proposed specifications for butterfish. Of the three the Council did not select, two alternatives would have resulted in lower 2014 specifications. The first of these is the No Action alternative (status quo), which would have set the butterfish ABC at 8,400 mt and resulted in an ACT of 7,560 mt, a DAH and DAP of 2,570 mt, and a butterfish mortality cap at 3,884 mt. The other alternative (the most restrictive) would have set the ABC at 25 percent lower than the proposed alternative (6,825 mt), resulting in an ACT of 6,143 mt, a DAH and DAP of 2,400 mt, and a butterfish mortality cap at 2,913 mt. These alternatives could generate the lowest revenues of all of the considered alternatives. The fourth alternative (the least restrictive) would have set the ABC at 25 percent higher than the proposed alternative (11,375 mt), resulting in an ACT of 10,238 mt, a DAH and DAP of 5,248 mt, and a butterfish mortality cap at 3,884 mt. This alternative could generate increased revenue if more butterfish became available to the fishery. These three alternatives were not selected because they were all inconsistent with the ABC recommended by the SSC.

The Council considered four alternatives for the RH/S catch cap in the mackerel fishery. Aside from the No Action (status quo) alternative, which would not have implemented a catch cap in the fishery because there is currently no cap in place, the Council considered one alternative that would have set the RH/S catch cap at 119 mt (most restrictive) and one alternative that would have set the RH/S catch cap at 456 mt (least restrictive). If the catch cap were set at 119 mt, there would be the greatest likelihood that the cap level could restrict mackerel fishing, whereas setting the RH/S cap at 456 mt would be the least likely to be restrictive. Any cap would be more likely to close the fishery compared to no cap (status quo), the proposed alternative (RH/S cap of 236 mt) would most likely assist in the recovery of RH/S stocks while allowing the mackerel fishery to continue, assuming low RH/S catch rates.

With regards to matching Phase 3 and the incidental trip limits in the butterfish fishery, the Council considered two other alternatives in addition to the proposed alternative (i.e., increasing the Phase 3 trip limit from 500 lb (0.23 mt) to 600 lb (0.27 mt), to match the incidental limit). One alternative was the No Action alternative, which would have unnecessarily continued the regulatory confusion by requiring two different possession limits based on permit type. The other alternative would have lowered the incidental limit to 500 lb (0.23 mt) to match the current Phase 3 limit, which potentially could have the effect of converting currently retained butterfish catch into discards. The proposed alternative would resolve this confusion over different trip limits, while continuing to discourage directed fishing.

The Council considered three alternatives related to the post-closure possession limit of longfin squid in the Illex fishery. The most restrictive alternative considered was the No Action (status quo) alternative, which would continue the current longfin squid trip limit of 2,500 lb (1.13 mt) in Trimester 3. The proposed alternative, which would increase the possession limit to 15,000 lb (6.80 mt), is the least restrictive alternative. The other alternative considered would have increased the longfin squid possession limit to 10,000 lb (4.54 mt). Compared to the other two alternatives, the status quo alternative would continue to result in high levels of regulatory discards of longfin squid and would result in lower revenues than the other alternatives considered. Although the other two alternatives would both result in previously discarded longfin squid being landed, the proposed alternative with its higher possession limit would result in the highest potential revenue.

List of Subjects in 50 CFR Part 648

Fisheries, Fishing, Recordkeeping and reporting requirements.

Dated: January 6, 2014.
Alan D. Risenhoover,
Director, Office of Sustainable Fisheries, performing the functions and duties of the Deputy Assistant Administrator for Regulatory Programs, National Marine Fisheries Service.

For the reasons set out in the preamble, 50 CFR part 648 is proposed to be amended as follows:

PART 648—FISHERIES OF THE NORTHEASTERN UNITED STATES

1. The authority citation for part 648 continues to read as follows:

Authority: 16 U.S.C. 1801 et seq.

2. In § 648.23, paragraph (a)(3) is revised and paragraph (a)(4) is added to read as follows:

§ 648.23 Mackerel, squid, and butterfish gear restrictions.

* * * * *

(a) * * *

(3) Illex fishery. Seaward of the following coordinates, connected in the order listed by straight lines except otherwise noted, otter trawl vessels possessing longfin squid harvested in or from the EEZ and fishing for Illex during the months of June, July, August, in Trimester II, and September in Trimester III are exempt from the longfin squid gear requirements specified in paragraph (a)(2) of this section, provided that landward of the specified coordinates they do not have available for immediate use, as defined in paragraph (b) of this section, any net, or any piece of net, with a mesh size less than 1⅞ inches (48 mm) diamond mesh in Trimester II, and 2⅛ inches (54 mm) diamond mesh in Trimester III, or any piece of net, with mesh that is rigged in a manner that is prohibited by paragraph (a)(2) of this section.

Point | N. lat. | W. long.
M0 | 43°58.0′ | ¹
M1 | 43°58.0′ | 67°22.0′
M2 | 43°50.0′ | 68°35.0′
M3 | 43°30.0′ | 69°40.0′
M4 | 43°20.0′ | 70°00.0′
M5 | 42°45.0′ | 70°10.0′
M6 | 42°13.0′ | 69°55.0′
M7 | 41°00.0′ | 69°00.0′
M8 | 41°45.0′ | 68°15.0′
M9 | 42°10.0′ | ² 67°10.0′
M10 | 41°18.6′ | ² 66°24.8′
M11 | 40°55.5′ | 66°38.0′
M12 | 40°45.5′ | 68°00.0′
M13 | 40°37.0′ | 68°00.0′
M14 | 40°30.0′ | 69°00.0′
M15 | 40°22.7′ | 69°00.0′
M16 | 40°18.7′ | 69°40.0′
M17 | 40°21.0′ | 71°03.0′
M18 | 39°41.0′ | 72°32.0′
M19 | 38°47.0′ | 73°11.0′
M20 | 38°04.0′ | 74°06.0′
M21 | 37°08.0′ | 74°46.0′
M22 | 36°00.0′ | 74°52.0′
M23 | 35°45.0′ | 74°53.0′
M24 | 35°28.0′ | 74°52.0′
M25 | 35°28.0′ | (³)
¹ The intersection of 43°58.0′ N. latitude and the US-Canada Maritime Boundary.
² Points M9 and M10 are intended to fall along and are connected by the US-Canada Maritime Boundary.
³ The intersection of 35°28.0′ N. latitude and the outward limit of the US EEZ.

(4) Mackerel, squid, and butterfish bottom trawling restricted areas—(i) Oceanographer Canyon. No permitted mackerel, squid, or butterfish vessel may fish with bottom trawl gear in the Oceanographer Canyon or be in the Oceanographer Canyon unless transiting. Vessels may transit this area provided the bottom trawl gear is stowed in accordance with the provisions of paragraph (b) of this section. Oceanographer Canyon is defined by straight lines connecting the following points in the order stated (copies of a chart depicting this area are available from the Regional Administrator upon request):

Oceanographer Canyon
Point | N. lat. | W. long.
OC1 | 40°10.0′ | 68°12.0′
OC2 | 40°24.0′ | 68°09.0′
OC3 | 40°24.0′ | 68°08.0′
OC4 | 40°10.0′ | 67°59.0′
OC1 | 40°10.0′ | 68°12.0′

(ii) Lydonia Canyon. No permitted mackerel, squid, or butterfish vessel may fish with bottom trawl gear in the Lydonia Canyon or be in the Lydonia Canyon unless transiting. Vessels may transit this area provided the bottom trawl gear is stowed in accordance with the provisions of paragraph (b) of this section. Lydonia Canyon is defined by straight lines connecting the following points in the order stated (copies of a chart depicting this area are available from the Regional Administrator upon request):

Lydonia Canyon
Point | N. lat. | W. long.
LC1 | 40°16.0′ | 67°34.0′
LC2 | 40°16.0′ | 67°42.0′
LC3 | 40°20.0′ | 67°43.0′
LC4 | 40°27.0′ | 67°40.0′
LC5 | 40°27.0′ | 67°38.0′
LC1 | 40°16.0′ | 67°34.0′

* * * * *

3. In § 648.24, paragraph (b)(7) is added and paragraph (c)(1)(iii) is revised to read as follows:

§ 648.24 Fishery closures and accountability measures.

* * * * *

(b) * * *

(7) River herring and shad catch cap. NMFS shall close the directed mackerel fishery in the EEZ when the Regional Administrator projects that 95 percent of the river herring/shad catch cap has been harvested.

(c) * * *

(1) * * *

(iii) Phase 3. NMFS shall subsequently reduce the trip limit for vessels issued longfin squid/butterfish moratorium permits to 600 lb (0.27 mt), regardless of minimum mesh size, when butterfish harvest is projected to reach the relevant phase 3 trip limit reduction threshold. The NMFS Regional Administrator may adjust the butterfish trip limit during phase 3 of the directed butterfish fishery anywhere from 250 lb (0.11 mt) to 750 lb (0.34 mt) to ensure butterfish harvest does not exceed the specified DAH.

* * * * *

4. In § 648.26, paragraphs (b) and (d)(3) are revised to read as follows:

§ 648.26 Mackerel, squid, and butterfish possession restrictions.

* * * * *

(b) Longfin squid. (1) Unless specified in paragraph (b)(2) of this section, during a closure of the directed fishery for longfin squid vessels may not fish for, possess, or land more than 2,500 lb (1.13 mt) of longfin squid per trip at any time, and may only land longfin squid once on any calendar day, which is defined as the 24-hr period beginning at 0001 hours and ending at 2400 hours. If a vessel has been issued a longfin squid incidental catch permit (as specified at § 648.4(a)(5)(ii)), then it may not fish for, possess, or land more than 2,500 lb (1.13 mt) of longfin squid per trip at any time and may only land longfin squid once on any calendar day, unless such a vessel meets the criteria outlined in paragraph (b)(2) of this section.

(2) During a closure of the directed fishery for longfin squid for Trimester II, a vessel with a longfin squid/butterfish moratorium permit that is on a directed Illex squid fishing trip (i.e., possess over 10,000 lb (4.54 mt) of Illex) and is seaward of the coordinates specified at § 648.23 (a)(3), may possess up to 15,000 lb (6.80 mt) of longfin squid. Once landward of the coordinates specified at § 648.23 (a)(3), such vessels must stow all fishing gear, as specified at § 648.23(b), in order to possess more than 2,500 lb (1.13 mt) of longfin squid per trip.

* * * * *

(d) * * *

(3) Phase 3. When butterfish harvest is projected to reach the trip limit reduction threshold for phase 3 (as described in § 648.24), all vessels issued a longfin squid/butterfish moratorium permit, regardless of mesh size used, may not fish for, possess, or land more than 600 lb (0.27 mt) of butterfish per trip at any time, and may only land butterfish once on any calendar day, which is defined as the 24-hr period beginning at 0001 hours and ending at 2400 hours. If a vessel has been issued a longfin squid/butterfish incidental catch permit (as specified at § 648.4(a)(5)(ii)), it may not fish for, possess, or land more than 600 lb (0.27 mt) of butterfish per trip at any time.

[FR Doc. 2014-00265 Filed 1-9-14; 8:45 am]

BILLING CODE 3510-22-P